DEPARTMENT OF ENERGY

Federal Energy Regulatory Commission

Combined Notice of Filings #1

Take notice that the Commission received the following electric corporate filings:

Docket Numbers: EC18-63-000.

Applicants: Bayou Cove Peaking Power LLC, Big Cajun I Peaking Power LLC, CottonWood Energy Company LP, Louisiana Generating LLC, NRG Sterlington Power LLC, NRG Cottonwood Tenant LLC, NRG Power Marketing LLC, Cleco Cajun LLC, Cleco Corporate Holdings LLC, Cleco Group LLC, Cleco Partners L.P.

Description: Response of Bayou Cove Peaking Power, LLC, et al. to May 16, 2018 Deficiency Letter.

Filed Date: 6/15/18.

Accession Number: 20180615-5249.

Comments Due: 5 p.m. ET 7/6/18.

Docket Numbers: EC18-104-000.

Applicants: Vectren Corporation, CenterPoint Energy.

Description: Joint Application for Authorization Under Section 203 of the Federal Power Act of Vectren Corporation, et al.

Filed Date: 6/15/18.

Accession Number: 20180615-5252.

Comments Due: 5 p.m. ET 7/6/18.

Take notice that the Commission received the following electric rate filings:

Docket Numbers: ER10-3145-011; ER10-3116-011; ER13-1544-008; ER10-3120-011; ER11-2036-011; ER16-930-005; ER10-3128-011; ER10-1800-012; ER10-3136-011; ER11-2701-013; ER10-1728-011; ER15-1582-011; ER15-1579-010; ER15-1914-012; ER16-1255-006; ER16-2201-005; ER16-1955-006; ER17-1864-004; ER17-1871-004; ER17-1909-004; ER17-544-005; ER17-306-005; ER16-1738-006; ER16-474-007; ER16-1901-006; ER16-468-006; ER15-2668-001; ER15-2679-008; ER16-2578-006; ER16-2541-005; ER15-2680-008; ER15-762-012; ER16-2224-005; ER16-890-007; ER15-760-011; ER16-1973-006; ER16-1956-006.

Applicants: AES Alamitos, LLC, AES Energy Storage, LLC, AES ES Tait, LLC, AES Huntington Beach, L.L.C., AES Laurel Mountain, LLC, AES Ohio Generation, LLC, AES Redondo Beach, L.L.C., Indianapolis Power & Light Company, Mountain View Power Partners, LLC, Mountain View Power Partners IV, LLC, The Dayton Power and Light Company, 65HK 8me LLC, 67RK 8me LLC, 87RL 8me LLC, Antelope Big Sky Ranch LLC, Antelope DSR 1, LLC, Antelope DSR 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, Land of the Sky MT, LLC, Latigo Wind Park, LLC, North Lancaster Ranch LLC, Pioneer Wind Park I LLC, Sandstone Solar LLC, Sierra Solar Greenworks LLC, Solverde 1, LLC, Summer Solar LLC, Western Antelope Blue Sky Ranch A LLC, Western Antelope Blue Sky Ranch B LLC, Western Antelope Dry Ranch LLC.

Description: Notice of Non-Material Change in Status of AES MBR Affiliates.

Filed Date: 6/15/18.

Accession Number: 20180615-5139.

Comments Due: 5 p.m. ET 7/6/18.

Docket Numbers: ER13-102-015.

Applicants: New York Independent System Operator, Inc.

Description: Compliance filing: Correction of tariff record for 4/1/16 effective date—Order 1000 to be effective 4/1/2016.

Filed Date: 6/18/18.

Accession Number: 20180618-5055.

Comments Due: 5 p.m. ET 7/9/18.

Docket Numbers: ER18-1160-001.

Applicants: NRG Cottonwood Tenant LLC.

Description: Tariff Amendment: Response to Request for Additional Information to be effective 4/1/2018.

Filed Date: 6/18/18.

Accession Number: 20180618-5078.

Comments Due: 5 p.m. ET 7/9/18.

Docket Numbers: ER18-1260-001.

Applicants: Midcontinent Independent System Operator, Inc., Entergy Services, Inc.

Description: Tariff Amendment: 2018-06-18_Entergy Deficiency Response re Att O Revisions For Tax Rate Change to be effective 6/1/2018.

Filed Date: 6/18/18.

Accession Number: 20180618-5079.

Comments Due: 5 p.m. ET 7/9/18.

Docket Numbers: ER18-1769-001.

Applicants: PJM Interconnection, L.L.C.

Description: Tariff Amendment: Supplemental Filing for First Revised ISA No. 4623, Queue No. AC1-152 AC1-172 to be effective 5/10/2018.

Filed Date: 6/15/18.

Accession Number: 20180615-5167.

Comments Due: 5 p.m. ET 7/6/18.

Docket Numbers: ER18-1790-000.

Applicants: Puget Sound Energy, Inc.

Description: § 205(d) Rate Filing: Powerex PTP SA 880 to be effective 9/1/2018.

Filed Date: 6/15/18.

Accession Number: 20180615-5166.

Comments Due: 5 p.m. ET 7/6/18.

Docket Numbers: ER18-1791-000.

Applicants: Duke Energy Florida, LLC.

Description: Tariff Cancellation: DEF Notice of Termination (US EcoGen Polk, LLC LGIA SA-180) to be effective 8/15/2018.

Filed Date: 6/15/18.

Accession Number: 20180615-5168.

Comments Due: 5 p.m. ET 7/6/18.

Docket Numbers: ER18-1792-000.

Applicants: PacifiCorp.

Description: § 205(d) Rate Filing: RS 560 Hurricane Filing to Comply With Docket No. ER18-1254-000 to be effective 8/15/2018.

Filed Date: 6/15/18.

Accession Number: 20180615-5246.

Comments Due: 5 p.m. ET 7/6/18.

Docket Numbers: ER18-1793-000.

Applicants: PJM Interconnection, L.L.C.

Description: § 205(d) Rate Filing: Amendment to WMPA SA No. 3202; Queue No. W3-077 to be effective 4/30/2014.

Filed Date: 6/18/18.

Accession Number: 20180618-5053.

Comments Due: 5 p.m. ET 7/9/18.

Docket Numbers: ER18-1794-000.

Applicants: Southwestern Electric Power Company.

Description: § 205(d) Rate Filing: Bentonville PSA to be effective 5/31/2018.

Filed Date: 6/18/18.

Accession Number: 20180618-5070.

Comments Due: 5 p.m. ET 7/9/18.

Take notice that the Commission received the following electric securities filings:

Docket Numbers: ES18-40-000.

Applicants: ITC Midwest LLC.

Description: Application under Section 204 of the Federal Power Act of ITC Midwest LLC for authorization to issue debt securities.

Filed Date: 6/15/18.

Accession Number: 20180615-5150.

Comments Due: 5 p.m. ET 7/6/18.

Take notice that the Commission received the following PURPA 210(m)(3) filings:

Docket Numbers: QM18-10-000.

Applicants: Cooperative Energy.

Description: Response of Cooperative Energy to May 18, 2018 Deficiency Letter.

Filed Date: 6/18/18.

Accession Number: 20180618-5056.

Comments Due: 5 p.m. ET 7/16/18.

Docket Numbers: QM18-13-000.

Applicants: Sunflower Electric Power Corporation, Mid-Kansas Electric Company, Inc.

Description: Application of Sunflower Electric Power Corporation, et al. to Terminate Mandatory PURPA Purchase Obligation.

Filed Date: 6/15/18.

Accession Number: 20180615-5214.

Comments Due: 5 p.m. ET 7/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2018.
Kimberly D. Bose,
Secretary.

[FR Doc. 2018-13497 Filed 6-22-18; 8:45 am]

BILLING CODE 6717-01-P